DEPARTMENT OF TRANSPORTATION

Federal Aviation Administration

14 CFR Part 39

[Docket No. FAA-2009-0993; Directorate Identifier 2009-NM-089-AD]

RIN 2120-AA64

Airworthiness Directives; Airbus Model A300 B4-2C, B4-103, and B4-203 Airplanes; and Model A300 B4-601, B4-603, B4-620, B4-622, B4-605R, and B4-622R Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

One A300-600 aeroplane operator reported that, during a routine inspection, the Right Hand frame 40 forward fitting between stringer 32 and stringer 33 was found cracked. The subject aeroplane had previously been modified in accordance with Airbus SB A300-57-6053 (Airbus Modification 10453).

This condition, if not corrected, could result in a deterioration of the structural integrity of the frame.

* * * * *

The proposed AD would require actions that are intended to address the unsafe condition described in the MCAI.

DATES: We must receive comments on this proposed AD by December 14, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2009-0993; Directorate Identifier 2009-NM-089-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

The European Aviation Safety Agency (EASA), which is the Technical Agent for the Member States of the European Community, has issued Airworthiness Directive 2009-0094, dated April 21, 2009 (Correction: May 29, 2009) (referred to after this as “the MCAI”), to correct an unsafe condition for the specified products. The MCAI states:

One A300-600 aeroplane operator reported that, during a routine inspection, the Right Hand frame 40 forward fitting between stringer 32 and stringer 33 was found cracked. The subject aeroplane had previously been modified in accordance with Airbus SB A300-57-6053 (Airbus Modification 10453).

This condition, if not corrected, could result in a deterioration of the structural integrity of the frame.

As no fatigue maintenance tasks (Inspection SB or Airworthiness Limitation Item) presently exist to inspect the affected area for aeroplanes having incorporated Airbus Modification 10453 preventively (without preliminary crack finding), Airbus has developed a new inspection [for cracking, and repair if necessary] to ensure structural integrity of the concerned area of frame 40.

* * * * *

You may obtain further information by examining the MCAI in the AD docket.

Relevant Service Information

Airbus has issued the following service information. The actions described in this service information are intended to correct the unsafe condition identified in the MCAI.

• For Model A300 airplanes: Mandatory Service Bulletin A300-53A0387, including Appendices 01 and 02, dated September 12, 2008; and Service Bulletin A300-53-0268, Revision 06, dated January 7, 2002.

• For Model A300-600 airplanes: Mandatory Service Bulletin A300-57A6108, including Appendices 01 and 02, dated September 12, 2008; and Service Bulletin A300-57-6052, Revision 03, dated May 27, 2002, including Drawings 15R53810394, Issue A, dated December 21, 1998, and 21R57110247, Issue A, dated June 20, 1997.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 153 products of U.S. registry. We also estimate that it would take about 3 work-hours per product to comply with the basic requirements of this proposed AD. The average labor rate is $80 per work-hour. Based on these figures, we estimate the cost of the proposed AD on U.S. operators to be $36,720, or $240 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2009-0993; Directorate Identifier 2009-NM-089-AD.

Comments Due Date

(a) We must receive comments by December 14, 2009.

Affected ADs

(b) None.

Applicability

(c) This AD applies to Airbus airplanes, certificated in any category, as identified in paragraphs (c)(1) and (c)(2) of this AD.

(1) Model A300 B4-2C, B4-103, and B4-203 airplanes, all serial numbers, modified preventively in service (without preliminary crack findings) in accordance with Airbus Service Bulletin A300-53-0297 (Airbus Modification 10453).

(2) Model A300 B4-601, B4-603, B4-605R, B4-620, B4-622, and B4-622R airplanes, all serial numbers, modified preventively in service (without preliminary crack findings) in accordance with Airbus Service Bulletin A300-57-6053 (Airbus Modification 10453).

Note 1: For airplanes on which Airbus Service Bulletin A300-53-0297 or A300-57-6053 (Airbus Modification 10453), as applicable, have been incorporated as a corrective action (repair following crack finding), no action is required by this AD.

Subject

(d) Air Transport Association (ATA) of America Code 53: Fuselage.

Reason

(e) The mandatory continuing airworthiness information (MCAI) states:

One A300-600 aeroplane operator reported that, during a routine inspection, the Right Hand frame 40 forward fitting between stringer 32 and stringer 33 was found cracked. The subject aeroplane had previously been modified in accordance with Airbus SB A300-57-6053 (Airbus Modification 10453).

This condition, if not corrected, could result in a deterioration of the structural integrity of the frame.

As no fatigue maintenance tasks (Inspection SB or Airworthiness Limitation Item) presently exist to inspect the affected area for aeroplanes having incorporated Airbus Modification 10453 preventively (without preliminary crack finding), Airbus has developed a new inspection [for cracking, and repair if necessary] to ensure structural integrity of the concerned area of frame 40.

* * * * *

Actions and Compliance

(f) Unless already done, do the following actions.

(1) At the applicable time specified in Table 1 of this AD: Do a one-time detailed visual inspection of the forward fitting at frame 40 on both sides of the airplane, in accordance with Airbus Mandatory Service Bulletin A300-57A6108 (for Model A300 B4-601, B4-603, B4-605R, B4-620, B4-622, and B4-622R airplanes) or A300-53A0387 (for Model A300 B4-2C, B4-103, and B4-203 airplanes), both including Appendices 01 and 02, both dated September 12, 2008.

Table 1—Compliance Times
Airplane models/configuration | Compliance time
A300 B4-2C and B4-103 airplanes on which Airbus Service Bulletin A300-53-0297 was done prior to the accumulation of 9,000 total flight cycles | Prior to the accumulation of 18,000 total flight cycles, or within 3 months after the effective date of this AD, whichever occurs later.
A300 B4-2C and B4-103 airplanes on which Airbus Service Bulletin A300-53-0297 was done on or after the accumulation of 9,000 total flight cycles | Within 5,500 flight cycles after accomplishment of Airbus Service Bulletin A300-53-0297, or within 6 months after the effective date of this AD, whichever occurs later; except, for airplanes that, as of the effective date of this AD, have accumulated 11,000 flight cycles or more since accomplishment of Airbus Service Bulletin A300-53-0297, within 3 months after the effective date of this AD.
A300 B4-203 airplanes on which Airbus Service Bulletin A300-53-0297 was done prior to the accumulation of 8,300 total flight cycles | Prior to the accumulation of 15,000 total flight cycles, or within 3 months after the effective date of this AD, whichever occurs later.
A300 B4-203 airplanes on which Airbus Service Bulletin A300-53-0297 was done on or after the accumulation of 8,300 total flight cycles | Within 4,100 flight cycles after accomplishment of Airbus Service Bulletin A300-53-0297, or within 6 months after the effective date of this AD, whichever occurs later; except, for airplanes that, as of the effective date of this AD, have accumulated 8,200 flight cycles or more since accomplishment of Airbus Service Bulletin A300-53-0297, within 3 months after the effective date of this AD.
A300 B4-601, B4-603, B4-605R, B4-620, B4-622, and B4-622R airplanes on which Airbus Service Bulletin A300-57-6053 was done prior to the accumulation of 6,100 total flight cycles | Prior to the accumulation of 11,500 total flight cycles, or within 3 months after the effective date of this AD, whichever occurs later.
A300 B4-601, B4-603, B4-605R, B4-620, B4-622, and B4-622R airplanes on which Airbus Service Bulletin A300-57-6053 was done on or after the accumulation of 6,100 total flight cycles | Within 3,300 flight cycles after accomplishment of Airbus Service Bulletin A300-57-6053, or within 6 months after the effective date of this AD, whichever occurs later; except, for airplanes that, as of the effective date of this AD, have accumulated 6,600 flight cycles or more since accomplishment of Airbus Service Bulletin A300-57-6053, within 3 months after the effective date of this AD.

(2) Except as required by paragraph (f)(3) of this AD: If any crack is found during the inspection required by paragraph (f)(1) of this AD, before further flight, do a temporary or definitive repair, as applicable, in accordance with the Accomplishment Instructions of Airbus Service Bulletin A300-53-0268, Revision 06, dated January 7, 2002 (for Model A300 B4-2C, B4-103, and B4-203 airplanes); or A300-57-6052, Revision 03, dated May 27, 2002, including Drawings 15R53810394, Issue A, dated December 21, 1998, and 21R57110247, Issue A, dated June 20, 1997 (for Model A300 B4-601, B4-603, B4-605R, B4-620, B4-622, and B4-622R airplanes).

(3) If any crack found during the inspection required by paragraph (f)(1) of this AD cannot be repaired in accordance with Airbus Service Bulletin A300-53-0268, Revision 06, dated January 7, 2002; or A300-57-6052, Revision 03, dated May 27, 2002: Contact Airbus for repair instructions and before further flight repair the crack using a method approved by the Manager, International Branch, ANM-116, Transport Airplane Directorate, FAA.

(4) Submit an inspection report in accordance with Appendix 01 of Airbus Mandatory Service Bulletin A300-53A0387, dated September 12, 2008 (for Model A300 B4-2C, B4-103, and B4-203 airplanes); or Airbus Mandatory Service Bulletin A300-57A6108, dated September 12, 2008 (for Model A300 B4-601, B4-603, B4-605R, B4-620, B4-622, and B4-622R airplanes); to the address identified on the reporting sheet, at the applicable time specified in paragraph (f)(4)(i) or (f)(4)(ii) of this AD.

(i) If the inspection was done on or after the effective date of this AD: Submit the report within 30 days after the inspection.

(ii) If the inspection was done before the effective date of this AD: Submit the report within 30 days after the effective date of this AD.

FAA AD Differences

Note 2: This AD differs from the MCAI and/or service information as follows: Although the MCAI or Airbus Service Bulletin A300-53-0268, Revision 06, dated January 7, 2002; or A300-57-6052, Revision 03, dated May 27, 2002; allows further flight after cracks are found during compliance with the required action, paragraph (f)(3) of this AD requires that you repair the cracks before further flight.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2009-0094, dated April 21, 2009 (Correction: May 29, 2009); and the applicable service information specified in Table 2 of this AD for related information.

Table 2—Related Service Information
Document | Revision | Date
Airbus Mandatory Service Bulletin A300-53A0387, including Appendices 01 and 02 | Original | September 12, 2008.
Airbus Mandatory Service Bulletin A300-57A6108, including Appendices 01 and 02 | Original | September 12, 2008.
Airbus Service Bulletin A300-53-0268 | 06 | January 7, 2002.
Airbus Service Bulletin A300-57-6052, including Drawings 15R53810394, Issue A, dated December 21, 1998, and 21R57110247, Issue A, dated June 20, 1997 | 03 | May 27, 2002.

Issued in Renton, Washington, on October 19, 2009.
Ali Bahrami,
Manager, Transport Airplane Directorate, Aircraft Certification Service.

[FR Doc. E9-25864 Filed 10-27-09; 8:45 am]

BILLING CODE 4910-13-P